DEPARTMENT OF TRANSPORTATION

Federal Aviation Administration

[Policy Statement No. ANE-2006-33.3-4]

Policy for Repair and Alteration of Rotating Turbine Engine-Life-Limited Parts

AGENCY: Federal Aviation Administration, DOT.

ACTION: Notice of issuance; policy statement.

SUMMARY: The Federal Aviation Administration (FAA) announces the availability of policy for the repair and alteration of rotating turbine engine-life-limited parts, § 33.3.

DATES: The FAA issued policy statement number ANE-2006-33.3-4 on July 27, 2006.

FOR FURTHER INFORMATION CONTACT: Karen M. Grant, FAA, Engine and Propeller Standards Staff, ANE-110, 12 New England Executive Park, Burlington, MA 01803; e-mail: karen.m.grant@faa.gov; telephone: (781) 238-7119; fax: (781) 238-7199. The policy statement is available on the Internet at the following address: http://www.faa.gov. (click on the “Regulations and Policies” tab, then “Regulatory and Guidance Library”). If you do not have access to the Internet, you may request a copy of the policy by contacting the individual listed in this section.

SUPPLEMENTARY INFORMATION: The FAA published a notice in the Federal Register on October 13, 2005 (70 FR 59801) to announce the availability of the proposed policy and invite interested parties to comment.

We have filed in the docket all comments we received, as well as a report summarizing each substantive public contact with FAA personnel concerning this policy. The docket is available for public inspection. If you wish to review the docket in person, go to the above address between 9 a.m. and 5 p.m., Monday through Friday, except Federal holidays.

Background

This policy memorandum provides guidance for determining the effect proposed repairs or alterations may have on rotating turbine engine-life-limited parts. It also reaffirms guidance identified in Orders 8110.37 and 8110.4 for coordinating the review of data for these proposed repairs and alterations. This policy does not create any new requirements.

(Authority: 49 U.S.C. 106(g), 40113, 44701-44702, 44704)

Issued in Burlington, Massachusetts, on July 27, 2006.
Francis A. Favara,
Manager, Engine and Propeller Directorate, Aircraft Certification Service.

[FR Doc. 06-6700 Filed 8-3-06; 8:45 am]

BILLING CODE 4910-13-M